DEPARTMENT OF TRANSPORTATION

Federal Aviation Administration

Research, Engineering and Development (R,E&D) Advisory Committee

Pursuant to section 10(A)(2) of the Federal Advisory Committee Act (Public Law 92-463; 5 U.S.C. App. 2), notice is hereby given of a meeting of the FAA Researach, Engineering and Development (R,E&D) Advisory Committee.

Agency: Federal Aviation Administration.

Action: Notice of Meeting.

Name: Research, Engineering & Development Advisory Committee.

Time and Date: April 11—9 a.m.-4:30 p.m.; April 12—8 a.m.-5 p.m.; April 13—9 a.m.-12 noon.

Place: Holiday Inn Rosslyn Westpark Hotel, 1900 North Fort Myer Drive, Arlington, Virginia 22209.

Purpose: the meeting agenda will include receiving guidance from the Committee for FAA's research and development investments in the areas of air traffic services, airports, aircraft safety, security, human factors and environment and energy. A joint session will be held on April 12 from 1:00 p.m. to 5:00 p.m. with NASA's Aero-Space Technology Advisory Committee. The agenda will include briefings on NASA's Icing Research, the Small Aircraft Transportation Systems (SATS) and a report from the Air Traffic Management Subcommittee.

Attendance is open to the interested public but limited to space available. Persons wishing to attend the meeting or obtain information should contact Lee Olson at the Federal Aviation Administration, AAR-200, 800 Independence Avenue, SW, Washington, DC 20591 (202) 267-7358. Please inform us if you are in need of assistance or require a reasonable accommodation for this meeting.

Members of the public may present a written statement to the Committee at any time.

Issued in Washington, DC on March 15, 2000.
Herman A. Rediess,
Director, Office of Aviation Research.

[FR Doc. 00-7003 Filed 3-20-00; 8:45 am]

BILLING CODE 4910-13-M